CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its Process and Impact Evaluation of the Minnesota Reading Corps project. This project will assess the impact of the Minnesota Reading Corps on tutees' educational and other outcomes. This project will also assess the effect of the Minnesota Reading Corps on AmeriCorps member outcomes.

Copies of the information collection request can be obtained by contacting the office listed in the addresses section of this notice.

DATES: Written comments must be submitted to the individual and office listed in the ADDRESSES section by May 8, 2012.

ADDRESSES: You may submit comments, identified by the title of the information collection activity, by any of the following methods:

(1) By mail sent to: Corporation for National and Community Service, Strategy Office; Attention: Lillian Dote, Policy Analyst; 601 Walnut Street, Suite 876E; Philadelphia, PA 19107.

(2) By hand delivery or by courier to the mail address given in paragraph (1) above, between 9 a.m. and 4 p.m. Eastern Time, Monday through Friday, except Federal holidays.

(3) By fax to: (215) 597-4933, Attention: Lillian Dote, Policy Analyst.

(4) Electronically through www.regulations.gov. Individuals who use a telecommunications device for the deaf (TTY-TDD) may call 1-800-833-3722 between 8 a.m. and 8 p.m. Eastern Time, Monday through Friday.

FOR FURTHER INFORMATION CONTACT: Lillian Dote, (215) 964-6321, or by email at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Information will be collected, via survey, from individuals that apply to the Minnesota Reading Corps to serve as tutors in order to assess the effect of service in Minnesota Reading Corps on members' satisfaction, education, employment, civic engagement, and other outcomes. Information will be collected through interviews with Minnesota Reading Corps coaches and administrators, and school principals and teachers in the State of Minnesota that receive Minnesota Reading Corps services, in order to conduct a feasibility analysis, develop the study design for the impact evaluation, and obtain baseline information for the process assessment.

Current Action

This is a new information collection request.

Type of Review: New.

Agency: Corporation for National and Community Service.

Title: Process Assessment and Impact Evaluation of the Minnesota Reading Corps.

OMB Number: None.

Agency Number: None.

Affected Public: Individuals that apply to the Minnesota Reading Corps to serve as tutors; Minnesota Reading Corps coaches and administrators; and school principals and teachers in the State of Minnesota that receive Minnesota Reading Corps services.

Total Respondents: 2,020.

Frequency: Once.

Average Time per Response: Averages 45 minutes.

Estimated Total Burden Hours: 1,515 hours.

Total Burden Cost (capital/startup): None.

Total Burden Cost (operating/maintenance): None.

Comments submitted in response to this notice will be summarized and/or included in the request for Office of Management and Budget approval of the information collection request; they will also become a matter of public record.

Dated: March 5, 2012.
Nathan Dietz,
Strategy Office, Research and Policy Development.

[FR Doc. 2012-5726 Filed 3-8-12; 8:45 am]

BILLING CODE 6050-$$-P